NATIONAL SCIENCE FOUNDATION

Agency Information Collection Activities: Comment Request

AGENCY: National Science Foundation.

ACTION: Submission for OMB Review; Comment Request.

SUMMARY: The National Science Foundation (NSF) has submitted the following information collection requirement to OMB for review and clearance under the Paperwork Reduction Act of 1995, Public Law 104-13. This is the second notice for public comment; the first was published in the Federal Register at 77 FR 48553, and one comment was received. NSF is forwarding the proposed submission to the Office of Management and Budget (OMB) for clearance simultaneously with the publication of this second notice. The full submission (including comments) may be found at: http://www.reginfo.gov/public/do/PRAMain.

Comments: Comments regarding (a) whether the collection of information is necessary for the proper performance of the functions f the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Office of Information and Regulatory Affairs of OMB, Attention: Desk Officer for National Science Foundation, 725—17th Street, NW. Room 10235, Washington, DC 20503, and to Suzanne H. Plimpton, Reports Clearance Officer, National Science Foundation, 4201 Wilson Boulevard, Suite 1265, Arlington, Virginia 22230 or send email to splimpto@nsf.gov. Individuals who use a telecommunications device for the deaf (TDD) may call the Federal Information Relay Service (FIRS) at 1-800-877-8339, which is accessible 24 hours a day, 7 days a week, 365 days a year (including federal holidays).

DATES: Comments regarding these information collections are best assured of having their full effect if received within 30 days of this notification. Copies of the submission(s) may be obtained by calling 703-292-7556.

NSF may not conduct or sponsor a collection of information unless the collection of information displays a currently valid OMB control number and the agency informs potential persons who are to respond to the collection of information that such persons are not required to respond to the collection of information unless it displays a currently valid OMB control number.

SUPPLEMENTARY INFORMATION:

Comments: As required by 5 CFR 1320.8(d), comments on the information collection activities as part of this study were solicited through publication of a 60-Day Notice in the Federal Register on August 14, 2012, at 77 FR 48553. We received one comment, to which we here respond.

Commenter: The Center for Equal Opportunity provided the following comment:

We have a comment on this sentence in yesterday's Federal Register notice (77 FR 48553, August 14, 2012, NSF “Notice of Intent To Seek Approval To Establish an Information Collection”): “From this knowledge, a benchmark for progress towards creating a path of equity in engineering for women, and especially for racial/ethnic minorities and persons with disabilities can be established starting with the culture of the centers.”

Since the aim is a workplace environment that is welcoming, inclusive, and nondiscriminatory toward all, we suggest this sentence be rewritten as follows in this and future Federal Register notices of this kind: “From this knowledge, a benchmark for progress towards creating a path of equity in engineering for women and men, and for all racial/ethnic groups and persons with disabilities, can be established starting with the culture of the centers.”

Not only is the wording more in keeping with the principles of inclusion and nondiscrimination, but it is generally illegal for the government to show favoritism or even use classifications based on race, ethnicity, or sex. See Adarand Constructors, Inc. v. Pena, 515 U.S. 200, 227 (1995) (“all racial classifications . . . must be analyzed by a reviewing court under strict scrutiny”); Mississippi University for Women v. Hogan, 458 U.S. 718 (1982) (gender classifications require an “exceedingly persuasive justification”). See also Title VI of the 1964 Civil Rights Act, 42 U.S.C. 2000d (prohibiting discrimination on the basis of race, color, and national origin in federally funded programs). Indeed, such classifications and favoritism are “presumptively invalid” (see Personnel Administrator v. Feeney, 442 U.S. 256 (1979)). The wording we suggest is in line with that used by many other federal agencies in their Federal Register notices. See, for example, 76 FR 13422 (DHS), 77 FR 27013 (USDA), 77 FR 24268 (DoTreasury), 75 FR 78705 (HHS), 76 FR 8366 (EPA), 77 FR 15745 (DoEnergy), 77 FR 35063 (DoL), etc.

Response: In response to the comment, the Need and Use of Information Collection section was modified to:

The NSF Engineering Research Centers (ERCs) were established in 1985 with one of the goals being the development of a diverse, globally competitive engineering workforce. The ERCs provide information regarding diversity in the Centers through 10-year diversity strategic plans and annual reporting that includes demographic data. However, beyond the numbers, NSF does not have a good understanding of the culture for diversity inside these centers and how it impacts faculty, students and their success. This information will enable NSF to have an unprecedented perspective of the ERC diversity culture. From this knowledge, a benchmark for progress towards creating a path of equity in engineering for women and men, all racial/ethnic groups and persons with disabilities, can be established starting with the culture of the centers. Also, with a better understanding of the diversity efforts and diversity culture within the ERCs, the information will enable us to assess, refine, and improve diversity efforts. We want the ERCs to be inclusive environments for all. This diversity climate survey will enable us to evaluate how close we are to that goal.

For outside technical expertise, NSF has consulted with the Center for Biorenewable Chemicals (CBiRC) and the Computer Integrated Surgical Systems and Technology (CISST) Engineering Research Centers that have executed similar diversity surveys across their member institutions. These centers had success in developing a survey with content specifically designed to address the experiences unique to ERC personnel. The education, outreach and diversity staff within these specific ERCs have been available for consultation in the developmental process of the survey.

After consideration of this comment, we are moving forward with our submission to OMB.

Title of Collection: Engineering Research Center's Diversity Climate Survey.

OMB Number: 3145-NEW.

Type of Request: Intent to seek approval to establish an information collection.

Abstract

Proposed Project: We would like to use Survey Monkey to administer a diversity climate survey to the 17, active NSF Engineering Research Centers. This survey will have a mix of rating and open-ended questions. Our goal is to gain an understanding of the climate of diversity within the ERCs.

Need and Use of Information Collection: The NSF ERCs were established in 1985 with one of the goals being the development of a diverse, globally competitive engineering workforce. The ERCs provide information regarding diversity in the Centers through 10-year diversity strategic plans and annual reporting that includes demographic data. However, beyond the numbers, NSF does not have a good understanding of the culture for diversity inside these centers and how it impacts faculty, students and their success. This information will enable NSF to have an unprecedented perspective of ERC diversity culture. From this knowledge, a benchmark for progress towards creating a path of equity in engineering for women, and especially for racial/ethnic minorities and persons with disabilities can be established starting with the culture of the centers. Also, with a better understanding of the diversity efforts and diversity culture within the ERCs, the information will enable us to assess, refine, and improve diversity efforts. We want the ERCs to be inclusive environments for all. This diversity climate survey will enable us to evaluate how close we are to that goal.

Estimate of the Burden: This survey will have 1,418 respondents and should take no more than 30 minutes to complete. This yields a burden time of 709 hours.

Respondents: Individuals; not-for-profit institutions

Estimated Number of Responses per Survey: One

Dated:September 25, 2013.
Suzanne H. Plimpton,
Reports Clearance Officer, National Science Foundation.

[FR Doc. 2013-23769 Filed 9-27-13; 8:45 am]

BILLING CODE 7555-01-P